DEPARTMENT OF HEALTH AND HUMAN SERVICES

National Institutes of Health

Proposed Collection; Comment Request; NCI Cancer Information Service Demographic/Customer Service Data Collection

SUMMARY: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: The National Cancer Institute Cancer Information Service Demographic Customer Service Data Collection. Type of Information Collection Request: Revision with change of a currently approved collection. (OMB No. 0925-0208, expiring 10-31-2003) Need and Use of Information Collection: The National Cancer Institute's Cancer Information Service (CIS) provides the latest information on cancer, clinical trials, and tobacco cessation. Characterizing users and how they found out about the CIS is essential to customer service, program planning and promotion. This effort involves a brief survey of users of the 1-800-4-CANCER toll-free service and LiveHelp, a web-based chat service. The telephone survey contains seven questions—3 customer service and 4 demographic—asked of a subset of callers (cancer patients, their family or friends, and the general public) at the end of usual service for an annual total of approximately 286,000 callers. One hundred percent of these callers will be asked the three customer service questions for an annual total of approximately 286,000 callers; 25% of callers will be asked the four demographic questions for an annual total of approximately 71,500 callers. If the call is the result of a special promotion, 50% of callers will be surveyed for demographics. Special promotions account for an estimated 30% of calls for an annual total of approximately 42,900 callers. The combined annual total is 400,400 callers. The LiveHelp web survey involves asking the same seven questions to 50% of the same subset of users for an annual total of approximately 5,500 users. The combined total to be surveyed each year is 405,900 users of the telephone and LiveHelp services for a total of 1,951 annual burden hours. Frequency of Response: Single time. Affected Public: Individuals or households. Type of Respondents: Patients, relatives, friends, and general public. The annual reporting burden is as follows:

Table 1.—Respondent and Burden Estimate
Type of respondents | Number of respondents | Frequency of response | Average time per response | Annual hour burden
Individuals or Households
Telephone:
—3 questions (100%) | 286,000 | 1 | 0.00328 | 937
—4 questions (25%) | 71,500 | 1 | 0.0083 | 594
—4 questions (50%)/special promotions | 42,900 | 1 | 0.0083 | 356
Subtotal | 400,400 |  |  | 1,888
LiveHelp:
—7 questions (50%) | 5,500 | 1 | 0.0116 | 64
Subtotal | 5,500 |  |  | 64
Annualized Totals | 405,900 |  |  | 1,952

The annualized cost to respondents is estimated at: $31,904. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

For Further Information Contact: To request more information on the proposed project or to obtain a copy of the data collection plans, contact Madeline LaPorta, Deputy Director, Office of Cancer Information Service, National Cancer Institute, 6116 Executive Boulevard, MSC 8322, Bethesda, Maryland 20892-8322, telephone (301) 594-8025, fax (301) 402-0555.

Comments Due Date: Comments regarding this information collection are best assured of having their full effect if received within 60 days of the date of the publication.

Dated: June 2, 2003.
Reesa L. Nichols,
NCI Project Clearance Liaison.

[FR Doc. 03-14419 Filed 6-6-03; 8:45 am]

BILLING CODE 4140-01-M